POSTAL REGULATORY COMMISSION

39 CFR Part 3020

[Docket Nos. MC2010-21 and CP2010-36]

Update to Product Lists

AGENCY: Postal Regulatory Commission.

ACTION: Final rule.

SUMMARY: The Commission is updating the product lists. This action reflects a publication policy adopted by Commission order. The referenced policy assumes periodic updates. The updates are identified in the body of this document. The product lists, which is re-published in its entirety, includes these updates.

DATES: Effective Date: September 30, 2015.

Applicability Dates: July 1, 2015, Global Expedited Package Services (GEPS)—Non-Published Rates 7 (MC2015-55 and CP2015-83); July 2, 2015, Priority Mail Contract 126 (MC2015-56 and CP2015-84); July 2, 2015, Priority Mail & First-Class Package Service Contract 5 (MC2015-57 and CP2015-85); July 8, 2015, Parcel Return Service Contract 9 (MC2015-58 and CP2015-88); July 8, 2015, Priority Mail Contract 127 (MC2015-60 and CP2015-90); July 8, 2015, Parcel Return Service Contract 10 (MC2015-59 and CP2015-89); July 14, 2015, Priority Mail Contract 129 (MC2015-62 and CP2015-93); July 15, 2015, Priority Mail & First-Class Package Service Contract 6 (MC2015-63 and CP2015-94); July 16, 2015, Priority Mail Contract 128 (MC2015-61 and CP2015-92); July 17, 2015, Priority Mail Contract 130 (MC2015-64 and CP2015-95); July 17, 2015, Priority Mail Contract 131 (MC2015-65 and CP2015-96); July 17, 2015, Priority Mail Contract 132 (MC2015-66 and CP2015-97); July 20, 2015, Priority Mail Contract 133 (MC2015-67 and CP2015-98); August 4, 2015, Priority Mail Contract 135 (MC2015-71 and CP2015-109); August 4, 2015, Priority Mail Contract 134 (MC2015-70 and CP2015-108); August 4, 2015, Priority Mail Express & Priority Mail Contract 19 (MC2015-69 and CP2015-107); August 5, 2015, Priority Mail Contract 138 (MC2015-74 and CP2015-112); August 5, 2015, Priority Mail & First-Class Package Service Contract 7 (MC2015-75 and CP2015-114); August 5, 2015, Priority Mail Contract 137 (MC2015-73 and CP2015-111); August 10, 2015, Priority Mail Contract 136 (MC2015-72 and CP2015-110); August 11, 2015, Priority Mail Contract 139 (MC2015-76 and CP2015-120); August 13, 2015, Priority Mail Express Contract 26 (MC2015-77 and CP2015-121); August 18, 2015, Priority Mail Express & Priority Mail Contract 20 (MC2015-78 and CP2015-123); August 25, 2015, Priority Mail Contract 140 (MC2015-79 and CP2015-126); September 14, 2015, Priority Mail Contract 141 (MC2015-80 and CP2015-134); September 14, 2015, Priority Mail Express Contract 27 (MC2015-81 and CP2015-135).

FOR FURTHER INFORMATION CONTACT: David A. Trissell, General Counsel, at 202-789-6800.

SUPPLEMENTARY INFORMATION: This document identifies updates to the product lists, which appear as 39 CFR Appendix A to Subpart A of Part 3020—Mail Classification Schedule. Publication of the updated product lists in the Federal Register is addressed in the Postal Accountability and Enhancement Act (PAEA) of 2006.

Authorization. The Commission process for periodic publication of updates was established in Docket Nos. MC2010-21 and CP2010-36, Order No. 445, April 22, 2010, at 8.

Changes. The product lists are being updated by publishing a replacement in its entirety of 39 CFR Appendix A to Subpart A of Part 3020—Mail Classification Schedule. The following products are being added, removed, or moved within the product lists:

1. Global Expedited Package Services (GEPS)—Non-Published Rates 7 (MC2015-55 and CP2015-83) (Order No. 2558), added July 1, 2015.

2. Priority Mail Contract 126 (MC2015-56 and CP2015-84) (Order No. 2559), added July 2, 2015.

3. Priority Mail & First-Class Package Service Contract 5 (MC2015-57 and CP2015-85) (Order No. 2560), added July 2, 2015.

4. Parcel Return Service Contract 9 (MC2015-58 and CP2015-88) (Order No. 2569), added July 8, 2015.

5. Priority Mail Contract 127 (MC2015-60 and CP2015-90) (Order No. 2570), added July 8, 2015.

6. Parcel Return Service Contract 10 (MC2015-59 and CP2015-89) (Order No. 2572), added July 8, 2015.

7. Priority Mail Contract 129 (MC2015-62 and CP2015-93) (Order No. 2582), added July 14, 2015.

8. Priority Mail & First-Class Package Service Contract 6 (MC2015-63 and CP2015-94) (Order No. 2583), added July 15, 2015.

9. Priority Mail Contract 128 (MC2015-61 and CP2015-92) (Order No. 2592), added July 16, 2015.

10. Priority Mail Contract 130 (MC2015-64 and CP2015-95) (Order No. 2595), added July 17, 2015.

11. Priority Mail Contract 131 (MC2015-65 and CP2015-96) (Order No. 2596), added July 17, 2015.

12. Priority Mail Contract 132 (MC2015-66 and CP2015-97) (Order No. 2598), added July 17, 2015.

13. Priority Mail Contract 133 (MC2015-67 and CP2015-98) (Order No. 2600), added July 20, 2015.

14. Priority Mail Contract 135 (MC2015-71 and CP2015-109) (Order No. 2636), added August 4, 2015.

15. Priority Mail Contract 134 (MC2015-70 and CP2015-108) (Order No. 2637), added August 4, 2015.

16. Priority Mail Express & Priority Mail Contract 19 (MC2015-69 and CP2015-107) (Order No. 2638), added August 4, 2015.

17. Priority Mail Contract 138 (MC2015-74 and CP2015-112) (Order No. 2640), added August 5, 2015.

18. Priority Mail & First-Class Package Service Contract 7 (MC2015-75 and CP2015-114) (Order No. 2641), added August 5, 2015.

19. Priority Mail Contract 137 (MC2015-73 and CP2015-111) (Order No. 2642), added August 5, 2015.

20. Priority Mail Contract 136 (MC2015-72 and CP2015-110) (Order No. 2647), added August 10, 2015.

21. Priority Mail Contract 139 (MC2015-76 and CP2015-120) (Order No. 2651), added August 11, 2015.

22. Priority Mail Express Contract 26 (MC2015-77 and CP2015-121) (Order No. 2662), added August 13, 2015.

23. Priority Mail Express & Priority Mail Contract 20 (MC2015-78 and CP2015-123) (Order No. 2670), added August 18, 2015.

24. Priority Mail Contract 140 (MC2015-79 and CP2015-126) (Order No. 2680), added August 25, 2015.

25. Priority Mail Contract 141 (MC2015-80 and CP2015-134) (Order No. 2706), added September 14, 2015.

26. Priority Mail Express Contract 27 (MC2015-81 and CP2015-135) (Order No. 2707), added September 14, 2015.

The following negotiated service agreements have expired and are being deleted from the Mail Classification Schedule:

1. Express Mail Contract 12 (MC2012-36 and CP2012-44) (Order No. 1433).

2. Priority Mail Contract 39 (MC2012-37 and CP2012-45) (Order No. 1434).

3. Priority Mail Contract 41 (MC2012-39 and CP2012-47) (Order No. 1445).

4. First-Class Package Service Contract 8 (MC2012-27 and CP2012-36) (Order No. 1394).

5. First-Class Package Service Contract 9 (MC2012-28 and CP2012-37) (Order No. 1395).

6. First-Class Package Service Contract 10 (MC2012-35 and CP2012-43) (Order No. 1419).

7. First-Class Package Service Contract 11 (MC2012-40 and CP2012-48) (Order No. 1446).

8. First-Class Package Service Contract 12 (MC2012-41 and CP2012-49) (Order No. 1447).

9. First-Class Package Service Contract 13 (MC2012-42 and CP2012-50) (Order No. 1452).

10. First-Class Package Service Contract 14 (MC2012-43 and CP2012-51) (Order No. 1453).

11. First-Class Package Service Contract 15 (MC2012-45 and CP2012-53) (Order No. 1457).

Updated product lists. The referenced changes to the product lists are incorporated into 39 CFR Appendix A to Subpart A of Part 3020—Mail Classification Schedule.

List of Subjects in 39 CFR Part 3020

Administrative practice and procedure, Postal Service.

For the reasons discussed in the preamble, the Postal Regulatory Commission amends chapter III of title 39 of the Code of Federal Regulations as follows:

PART 3020—PRODUCT LISTS

1. The authority citation for part 3020 continues to read as follows:

Authority: 39 U.S.C. 503; 3622; 3631; 3642; 3682.

2. Revise Appendix A of Subpart A of Part 3020—Mail Classification Schedule to read as follows:

Appendix A to Subpart A of Part 3020—Mail Classification Schedule

(An asterisk (*) indicates an organizational class or group, not a Postal Service product.)

Part A—Market Dominant Products

1000 Market Dominant Product List

First-Class Mail

Single-Piece Letters/Postcards

Presorted Letters/Postcards

Flats

Parcels

Outbound Single-Piece First-Class Mail International

Inbound Letter Post

Standard Mail (Commercial and Nonprofit)*

High Density and Saturation Letters

High Density and Saturation Flats/Parcels

Carrier Route

Letters

Flats

Parcels

Every Door Direct Mail—Retail

Periodicals*

In-County Periodicals

Outside County Periodicals

Package Services*

Alaska Bypass Service

Bound Printed Matter Flats

Bound Printed Matter Parcels

Media Mail/Library Mail

Special Services*

Ancillary Services

International Ancillary Services

Address Management Services

Caller Service

Credit Card Authentication

International Reply Coupon Service

International Business Reply Mail Service

Money Orders

Post Office Box Service

Customized Postage

Stamp Fulfillment Services

Negotiated Service Agreements*

Domestic*

Valassis Direct Mail, Inc. Negotiated Service Agreement

PHI Acquisitions, Inc. Negotiated Service Agreement

International*

Inbound Market Dominant Multi-Service Agreements with Foreign Postal Operators 1

Inbound Market Dominant Exprés Service Agreement 1

Nonpostal Services*

Alliances with the Private Sector to Defray Cost of Key Postal Functions Philatelic Sales

Market Tests*

Part B—Competitive Products

2000 Competitive Product List

Domestic Products*

Priority Mail Express

Priority Mail

Parcel Select

Parcel Return Service

First-Class Package Service

Standard Post

International Products*

Outbound International Expedited Services

Inbound Parcel Post (at UPU rates)

Outbound Priority Mail International

International Priority Airmail (IPA)

International Surface Air List (ISAL)

International Direct Sacks—M-Bags

Outbound Single-Piece First-Class Package International Service

Negotiated Service Agreements*

Domestic*

Priority Mail Express Contract 8

Priority Mail Express Contract 11

Priority Mail Express Contract 13

Priority Mail Express Contract 14

Priority Mail Express Contract 15

Priority Mail Express Contract 16

Priority Mail Express Contract 17

Priority Mail Express Contract 18

Priority Mail Express Contract 19

Priority Mail Express Contract 20

Priority Mail Express Contract 21

Priority Mail Express Contract 22

Priority Mail Express Contract 23

Priority Mail Express Contract 24

Priority Mail Express Contract 25

Priority Mail Express Contract 26

Priority Mail Express Contract 27

Parcel Return Service Contract 5

Parcel Return Service Contract 6

Parcel Return Service Contract 7

Parcel Return Service Contract 8

Parcel Return Service Contract 9

Parcel Return Service Contract 10

Priority Mail Contract 24

Priority Mail Contract 29

Priority Mail Contract 33

Priority Mail Contract 40

Priority Mail Contract 42

Priority Mail Contract 43

Priority Mail Contract 44

Priority Mail Contract 45

Priority Mail Contract 46

Priority Mail Contract 47

Priority Mail Contract 48

Priority Mail Contract 51

Priority Mail Contract 52

Priority Mail Contract 53

Priority Mail Contract 54

Priority Mail Contract 55

Priority Mail Contract 56

Priority Mail Contract 57

Priority Mail Contract 58

Priority Mail Contract 59

Priority Mail Contract 60

Priority Mail Contract 61

Priority Mail Contract 62

Priority Mail Contract 63

Priority Mail Contract 64

Priority Mail Contract 65

Priority Mail Contract 66

Priority Mail Contract 67

Priority Mail Contract 70

Priority Mail Contract 71

Priority Mail Contract 72

Priority Mail Contract 73

Priority Mail Contract 74

Priority Mail Contract 75

Priority Mail Contract 76

Priority Mail Contract 77

Priority Mail Contract 78

Priority Mail Contract 79

Priority Mail Contract 80

Priority Mail Contract 81

Priority Mail Contract 82

Priority Mail Contract 83

Priority Mail Contract 84

Priority Mail Contract 85

Priority Mail Contract 86

Priority Mail Contract 87

Priority Mail Contract 88

Priority Mail Contract 89

Priority Mail Contract 90

Priority Mail Contract 91

Priority Mail Contract 92

Priority Mail Contract 93

Priority Mail Contract 94

Priority Mail Contract 95

Priority Mail Contract 96

Priority Mail Contract 97

Priority Mail Contract 98

Priority Mail Contract 99

Priority Mail Contract 100

Priority Mail Contract 101

Priority Mail Contract 102

Priority Mail Contract 103

Priority Mail Contract 104

Priority Mail Contract 105

Priority Mail Contract 106

Priority Mail Contract 107

Priority Mail Contract 108

Priority Mail Contract 109

Priority Mail Contract 110

Priority Mail Contract 111

Priority Mail Contract 112

Priority Mail Contract 113

Priority Mail Contract 114

Priority Mail Contract 115

Priority Mail Contract 116

Priority Mail Contract 117

Priority Mail Contract 118

Priority Mail Contract 119

Priority Mail Contract 120

Priority Mail Contract 121

Priority Mail Contract 122

Priority Mail Contract 123

Priority Mail Contract 124

Priority Mail Contract 125

Priority Mail Contract 126

Priority Mail Contract 127

Priority Mail Contract 128

Priority Mail Contract 129

Priority Mail Contract 130

Priority Mail Contract 131

Priority Mail Contract 132

Priority Mail Contract 133

Priority Mail Contract 134

Priority Mail Contract 135

Priority Mail Contract 136

Priority Mail Contract 137

Priority Mail Contract 138

Priority Mail Contract 139

Priority Mail Contract 140

Priority Mail Contract 141

Priority Mail Express & Priority Mail Contract 9

Priority Mail Express & Priority Mail Contract 10

Priority Mail Express & Priority Mail Contract 11

Priority Mail Express & Priority Mail Contract 12

Priority Mail Express & Priority Mail Contract 13

Priority Mail Express & Priority Mail Contract 14

Priority Mail Express & Priority Mail Contract 16

Priority Mail Express & Priority Mail Contract 17

Priority Mail Express & Priority Mail Contract 18

Priority Mail Express & Priority Mail Contract 19

Priority Mail Express & Priority Mail Contract 20

Parcel Select & Parcel Return Service Contract 3

Parcel Select & Parcel Return Service Contract 5

Parcel Select Contract 2

Parcel Select Contract 3

Parcel Select Contract 4

Parcel Select Contract 5

Parcel Select Contract 6

Parcel Select Contract 7

Parcel Select Contract 8

Parcel Select Contract 9

Priority Mail—Non-Published Rates

Priority Mail—Non-Published Rates 1

First-Class Package Service Contract 16

First-Class Package Service Contract 17

First-Class Package Service Contract 18

First-Class Package Service Contract 19

First-Class Package Service Contract 20

First-Class Package Service Contract 21

First-Class Package Service Contract 22

First-Class Package Service Contract 23

First-Class Package Service Contract 24

First-Class Package Service Contract 25

First-Class Package Service Contract 26

First-Class Package Service Contract 27

First-Class Package Service Contract 28

First-Class Package Service Contract 29

First-Class Package Service Contract 30

First-Class Package Service Contract 31

First-Class Package Service Contract 32

First-Class Package Service Contract 33

First-Class Package Service Contract 34

First-Class Package Service Contract 35

First-Class Package Service Contract 36

First-Class Package Service Contract 37

Priority Mail Express, Priority Mail & First-Class Package Service Contract 1

Priority Mail Express, Priority Mail & First-Class Package Service Contract 2

Priority Mail Express, Priority Mail & First-Class Package Service Contract 3

Priority Mail Express, Priority Mail & First-Class Package Service Contract 4

Priority Mail & First-Class Package Service Contract 1

Priority Mail & First-Class Package Service Contract 2

Priority Mail & First-Class Package Service Contract 3

Priority Mail & First-Class Package Service Contract 4

Priority Mail & First-Class Package Service Contract 5

Priority Mail & First-Class Package Service Contract 6

Priority Mail & First-Class Package Service Contract 7

Outbound International*

Global Expedited Package Services (GEPS) Contracts GEPS 3

Global Direct Contracts

Global Direct Contracts 1

Global Bulk Economy (GBE) Contracts

Global Plus Contracts

Global Plus 1C

Global Plus 2C

Global Reseller Expedited Package Contracts

Global Reseller Expedited Package Services 1

Global Reseller Expedited Package Services 2

Global Reseller Expedited Package Services 3

Global Reseller Expedited Package Services 4

Global Expedited Package Services (GEPS)—Non-Published Rates

Global Expedited Package Services (GEPS)—Non-Published Rates 2

Global Expedited Package Services (GEPS)—Non-Published Rates 3

Global Expedited Package Services (GEPS)—Non-Published Rates 4

Global Expedited Package Services (GEPS)—Non-Published Rates 5

Global Expedited Package Services (GEPS)—Non-Published Rates 6

Global Expedited Package Services (GEPS)—Non-Published Rates 7

Priority Mail International Regional Rate Boxes—Non-Published Rates

Outbound Competitive International Merchandise Return Service

Agreement with Royal Mail Group, Ltd.

Priority Mail International Regional Rate Boxes Contracts

Priority Mail International Regional Rate Boxes Contracts 1

Inbound International*

International Business Reply Service (IBRS) Competitive Contracts

International Business Reply Service Competitive Contract 1

International Business Reply Service Competitive Contract 3

Inbound Direct Entry Contracts with Customers

Inbound Direct Entry Contracts with Foreign Postal Administrations

Inbound Direct Entry Contracts with Foreign Postal Administrations

Inbound Direct Entry Contracts with Foreign Postal Administrations 1

Inbound EMS

Inbound EMS 2

Inbound Air Parcel Post (at non-UPU rates)

Royal Mail Group Inbound Air Parcel Post Agreement

Inbound Competitive Multi-Service Agreements with Foreign Postal Operators 1

Special Services*

Address Enhancement Services

Greeting Cards, Gift Cards, and Stationery

International Ancillary Services

International Money Transfer Service—Outbound

International Money Transfer Service—Inbound

Premium Forwarding Service

Shipping and Mailing Supplies

Post Office Box Service

Competitive Ancillary Services

Nonpostal Services*

Advertising

Licensing of Intellectual Property other than Officially Licensed Retail Products (OLRP)

Mail Service Promotion

Officially Licensed Retail Products (OLRP)

Passport Photo Service

Photocopying Service

Rental, Leasing, Licensing or other Non-Sale Disposition of Tangible Property

Training Facilities and Related Services

USPS Electronic Postmark (EPM) Program

Market Tests*

Metro Post

International Merchandise Return Service (IMRS)—Non-Published Rates

Customized Delivery

Shoshana M. Grove,
Secretary.

[FR Doc. 2015-24605 Filed 9-29-15; 8:45 am]

BILLING CODE 7710-FW-P